DEPARTMENT OF COMMERCE

Foreign-Trade Zones Board

(Docket 56-2005)

Proposed Foreign-Trade Zone - Carroll and Jo-Daviess Counties, Illinois, Application and Public Hearing

An application has been submitted to the Foreign-Trade Zones (FTZ) Board (the Board) by the Jo-Carroll Foreign Trade Zone Board, a joint-county entity of the Counties of Carroll and Jo-Daviess, Illinois, to establish a general-purpose foreign-trade zone at a site in both counties, adjacent to the Davenport, Iowa/Moline and Rock Island, Illinois Customs port of entry. The FTZ application was submitted pursuant to the provisions of the FTZ Act, as amended (19 U.S.C. 81a-81u), and the regulations of the Board (15 CFR Part 400). It was formally filed on November 9, 2005. The applicant is authorized to make the proposal under Illinois Statutes 50 ILCS Act 40.

The proposed zone would be the second general-purpose zone in the Davenport, Iowa/Moline and Rock Island, Illinois Customs port of entry. The existing zone is as follows: FTZ 133, Davenport, Iowa/Milan, Illinois (Grantee: Quad-City Foreign-Trade Zone, Inc., Board Order 338, 10/29/86).

The proposed zone consists of one site (2,930 acres), located within the Counties of Carroll and Jo-Daviess. The site is located at the Eagles Landing Development (formerly the Savanna Army Depot), 18935 B Street, Savanna, Illinois 61074. The property is in the process of being conveyed by the U.S. Army to the Jo-Carroll Depot Local Redevelopment Authority, which has converted the former military base to commercial use.

The application indicates a need for zone services in the Counties of Carroll and Jo-Daviess. Several firms have indicated an interest in using zone procedures for warehousing/distribution activities for such products as safety gloves and alcoholic beverages. Specific manufacturing approvals are not being sought at this time. Requests would be made to the Board on a case-by-case basis.

In accordance with the Board's regulations, a member of the FTZ Staff has been designated examiner to investigate the application and report to the Board.

As part of the investigation, the Commerce examiner will hold a public hearing on December 6, 2005, at 9:00 a.m., at the Jo-Carroll Depot Local Redevelopment Authority Conference Room, 18935 B Street, Savanna, Illinois 61074.

Public comment on the application is invited from interested parties. Submissions (original and 3 copies) shall be addressed to the Board's Executive Secretary at one of the following addresses below:

1. Submissions via Express/Package Delivery Services: Foreign-Trade Zones Board, U.S. Department of Commerce, Franklin Court Building-Suite 4100W, 1099 14th Street, NW, Washington, DC 20005; or

2. Submissions via U.S. Postal Service: Foreign-Trade Zones Board, U.S. Department of Commerce, FCB-4100W, 1401 Constitution Avenue, NW, Washington, DC 20230.

The closing period for their receipt is January 17, 2006. Rebuttal comments in response to material submitted during the foregoing period may be submitted during the subsequent 15-day period to February 1, 2006.

A copy of the application will be available for public inspection at the Office of the Foreign-Trade Zones Board's Executive Secretary at address No. 1 listed above and at the Jo-Carroll Depot Local Redevelopment Authority, 18935 B Street, Savanna, Illinois 61074.

Dated: November 10, 2005.
Dennis Puccinelli,
Executive Secretary.

[FR Doc. 05-22927 Filed 11-17-05; 8:45 am]

BILLING CODE 3510-DS-S